LEGAL SERVICES CORPORATION

Sunshine Act Meeting of the Board of Directors, Operations and Regulations Committee

TIME AND DATE: The Operations and Regulations Committee of the Legal Services Corporation Board of Directors will meet on November 10, 2000. The meeting will begin at 11:30 a.m. and continue until the Committee concludes its agenda.

LOCATION: Marriott at Metro Center, 775 12th Street, NW, Washington, D.C.

STATUS OF MEETING: Open.

MATTERS TO BE CONSIDERED:

1. Approval of agenda.

2. Approval of the minutes of the Committee's meeting of September 18, 2000.

3. Staff report on the status of actions relating to 45 CFR Part 1628 (Recipient Fund Balances) and the proposed Property Acquisition and Management Manual.

4. Consider and act on potential rulemaking action implementing the findings of the Erlenborn Commission.

5. Consider and act on Report of the Regulations Review Task Force.

6. Consider and act on other business.

7. Public comment.

CONTACT PERSON FOR INFORMATION: Victor M. Fortuno, Vice President for Legal Affairs, General Counsel & Corporate Secretary, at (202) 336-8800.

SPECIAL NEEDS: Upon request, meeting notices will be made available in alternate formats to accommodate visual and hearing impairments. Individuals who have a disability and need an accommodation to attend the meeting may notify Shannon Nicko Adaway, at (202) 336-8800.

Dated: November 1, 2000.
Victor M. Fortuno,
Vice President for Legal Affairs, General Counsel & Corporate Secretary.

[FR Doc. 00-28461 Filed 11-1-00; 4:56 pm]

BILLING CODE 7050-01-P